ENVIRONMENTAL PROTECTION AGENCY

[FRL-9625-2]

Clean Air Act Operating Permit Program; Petition for Objection to State Operating Permit for Duke Energy Indiana—Edwardsport Generating Station

AGENCY: Environmental Protection Agency (EPA).

ACTION: Notice of final action.

SUMMARY: This document announces that the EPA Administrator has denied a petition from the Sierra Club, Valley Watch, and Citizen Action Coalition of Indiana (Petitioners) asking EPA to object to a Clean Air Act (Act) Title V operating permit for Duke Energy Indiana—Edwardsport Generating Station (Duke) issued by the Indiana Department of Environmental Management (IDEM).

Sections 307(b) and 505(b)(2) of the Act provide that a petitioner may seek judicial review in the United States Court of Appeals for the appropriate circuit of denials of any portion of the petition. Any petition for review shall be filed within 60 days from the date this notice appears in the Federal Register, pursuant to section 307 of the Act.

ADDRESSES: You may review copies of the final Order, the petition, and other supporting information at the EPA Region 5 Office, 77 West Jackson Boulevard, Chicago, Illinois 60604. If you wish to examine these documents, you should make an appointment at least 24 hours before visiting the Regional office. Additionally, the final Order for the Duke petition is available electronically at: http://www.epa.gov/region7/air/title5/petitiondb/petitiondb.htm.

FOR FURTHER INFORMATION CONTACT: Genevieve Damico, Chief, Air Permits Section, Air Programs Branch, Air and Radiation Division, EPA, Region 5, 77 West Jackson Boulevard Chicago, Illinois 60604, telephone (312) 353-4761, damico.genevieve@epa.gov.

SUPPLEMENTARY INFORMATION: The Act affords EPA a 45-day period to review and object, as appropriate, to Title V operating permits proposed by state permitting authorities. Section 505(b)(2) of the Act authorizes any person to petition the EPA Administrator within 60 days after the expiration of the EPA review period to object to a Title V operating permit if EPA has not done so. A petition must be based only on objections to the permit that were raised with reasonable specificity during the public comment period provided by the state, unless the petitioner demonstrates that it was impracticable to raise issues during the comment period, or the grounds for the issues arose after this period.

On September 20, 2010, EPA received a petition from the Petitioners requesting that EPA object to the Title V operating permit that IDEM proposed to issue to Duke. The Petitioners alleged that the permit is not in compliance with the requirements of the Act. Specifically, the Petitioners alleged that: (1) The permit fails to include a Best Available Control Technology limit for particulate matter with a diameter of 2.5 microns or less (PM2.5) because of the improper use of coarse particulate matter as a surrogate for PM2.5; and (2) emissions of PM2.5 from the plant would cause a violation of the PM2.5 National Ambient Air Quality Standard.

On December 13, 2011, the Administrator issued an Order denying the Petitioners' petition. The Order explains the reasons behind EPA's conclusion.

Dated: January 23, 2012.
Susan Hedman,
Regional Administrator, Region 5.

[FR Doc. 2012-2214 Filed 1-31-12; 8:45 am]

BILLING CODE 6560-50-P